Proclamation 9511 of September 30, 2016

National Energy Action Month, 2016

By the President of the United States of America

A Proclamation

The sustainability of our country and our world in the 21st century rests on our ability to address our shared energy challenges and to encourage diverse, clean, and efficient energy production. During National Energy Action Month, we rededicate ourselves to securing a more prosperous and energy-independent future. As climate change continues to threaten our planet, we must join together to reduce our carbon emissions, protect our environment, and leave behind a cleaner and more resilient world for generations to come.

Today, America is less reliant on foreign oil than at any point in the previous four decades. To build on this progress, we are implementing new fuel efficiency standards for medium- and heavy-duty vehicles that are projected to significantly reduce diesel consumption. We are also increasing the energy efficiency of our buildings and appliances and modernizing our energy infrastructure as we experience a rapid transformation in the way power is generated and used across our country.

To ensure our energy security for generations, the United States is partnering with Canada and Mexico to pursue regional energy security and combat climate change. Earlier this year at the North American Leaders Summit, we set an historic goal of achieving 50 percent clean power generation across our continent by 2025. These efforts will bolster a transition to clean energy sources that increase economic competitiveness and strengthen growing industries while supporting hundreds of thousands of new jobs. Our solar industry is creating jobs 12 times faster than the rest of the economy, and wind generation now supports tens of thousands of American jobs. Additionally, we are working to diversify our energy portfolio to include sources of zero emissions power like nuclear and hydropower; expand our supply of affordable, reliable, and efficient energy sources; and make it easier for every American to access cleaner forms of energy.

In response to the devastating consequences of our changing climate, we are embracing our responsibility to achieve a low-carbon future. To do our part, we are on track to reach the 2020 emissions reductions goals I set when I first took office, and we are pursuing even greater cuts for 2025. Last year, we joined nearly 200 countries for the announcement of the most ambitious climate agreement in history, and in September we formally joined the Paris Agreement with China. As we embolden the world to take steps that will dramatically reduce global carbon pollution, we are leading by example—our levels of carbon pollution remain at historic lows. We must continue demonstrating that a country can simultaneously strive for a cleaner environment and a stronger economy.

Despite this progress, there is much work to do to realize the clean energy economy of tomorrow. Last year, in partnership with 19 other countries, we launched Mission Innovation to accelerate clean energy innovation around the world. Through this initiative, 20 countries and the European Union committed to seeking to double public funding for clean energy research and development to $30 billion over 5 years. By doubling our proposed Federal investment in clean energy, we will enable our brightest scientists, engineers, and entrepreneurs to create and advance clean energy technologies that will protect our environment, increase our energy security, and create more jobs across our country.

Although the difficulties that lie ahead are large, the stakes are too great for inaction. Our children and grandchildren are relying on our ability to rise to these challenges and accomplish what is required of us—including advancing clean, renewable, and independent sources of energy. Throughout National Energy Action Month, let us pledge to reduce our carbon footprint and minimize our energy consumption. Let us strive to continue fighting for a cleaner, stronger, and more secure future for our fellow Americans and for all of humanity.

NOW, THEREFORE, I, BARACK OBAMA, President of the United States of America, by virtue of the authority vested in me by the Constitution and the laws of the United States, do hereby proclaim October 2016 as National Energy Action Month. I call upon the citizens of the United States to recognize this month by working together to achieve greater energy security, a more robust economy, and a healthier environment for our children.

IN WITNESS WHEREOF, I have hereunto set my hand this thirtieth day of September, in the year of our Lord two thousand sixteen, and of the Independence of the United States of America the two hundred and forty-first.

[FR Doc. 2016-24367

Filed 10-5-16; 8:45 am]

Billing code 3295-F7-P